DEPARTMENT OF LABOR

Employment and Training Administration

[TA-W-65,700]

Weyerhaeuser NR Company, Raymond Lumbermill, Raymond, WA; Notice of Affirmative Determination Regarding Application for Reconsideration

By application dated June 23, 2009, the International Association of Machinists and Aerospace Workers, Woodworkers District Lodge W1 requested administrative reconsideration of the negative determination regarding workers' eligibility to apply for Trade Adjustment Assistance (TAA) and Alternative Trade Adjustment Assistance (ATAA) applicable to workers and former workers of the subject firm. The determination was issued on June 5, 2009. The Notice of Determination was published in the Federal Register on June 18, 2009 (74 FR 28961).

The initial investigation resulted in a negative determination based on the finding that imports of softwood dimensional lumber (hemlock) did not contribute importantly to worker separations at the subject firm and no shift of production to a foreign source occurred.

In the request for reconsideration, the petitioner provided additional information regarding imports of softwood dimensional lumber and alleged that the subject firm might have increased imports of softwood dimensional lumber in the relevant period.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 6th day of July 2009.
Linda G. Poole,
Certifying Officer, Division of Trade Adjustment Assistance.

[FR Doc. E9-16608 Filed 7-13-09; 8:45 am]

BILLING CODE 4510-FN-P